DEPARTMENT OF HEALTH AND HUMAN SERVICES

National Institutes of Health

National Cancer Institute; Amended Notice of Meeting

Notice is hereby given of a change in the meeting of the National Cancer Institute Board of Scientific Advisors, June 20, 2011, 9 a.m. to June 21, 2011, 12 p.m., National Institutes of Health, Building 31, 31 Center Drive, 6th Floor, Conference Rm. 10, Bethesda, MD, 20892 which was published in the Federal Register on May 6, 2011, 76 FR 26310.

This meeting is amended to change it to a one-day meeting to be held on June 20, 2011, from 9 a.m. to 5 p.m. The meeting is open to the public.

Dated: May 17, 2011.
Jennifer S. Spaeth,
Director, Office of Federal Advisory Committee Policy.

[FR Doc. 2011-12638 Filed 5-20-11; 8:45 am]

BILLING CODE 4140-01-P